NUCLEAR REGULATORY COMMISSION

Request for a License To Export Radioactive Waste

Pursuant to 10 CFR 110.70 (c) “Public notice of receipt of an application,” please take notice that the Nuclear Regulatory Commission has received the following request for an export license. Copies of the request are available electronically through ADAMS and can be accessed through the Public Electronic Reading Room (PERR) link http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this license application follows.

NRC Export License Application
Name of applicant, date of application, date received, application No., docket No. | Description of material: Material type | Description of material: Total quantity | End use | Recipient country
Pacific EcoSolutions, Inc. is in the process of changing its name to Perma-Fix Northwest Inc. If approved, the licensee for this export will be Perma-Fix Northwest. Inc., May 16, 2007, June 18, 2007, XW012, 11005699 | Class A radioactive waste in various forms resulting from processing imported contaminated materials, or as non-conforming imported materials, which could not be processed nor recycled | Not to exceed the total quantity of radioactively contaminated materials imported under NRC Import License IW022 | Return for ultimate disposal of non-conforming imported waste or processed material that can be attributed to the Canadian generator | Canada.

For the Nuclear Regulatory Commission.
Dated this 24th day of July 2007 at Rockville, Maryland.
Stephen Dembek,
Acting Deputy Director, Office of International Programs.

[FR Doc. E7-14862 Filed 7-31-07; 8:45 am]

BILLING CODE 7590-01-P